FEDERAL COMMUNICATIONS COMMISSION

47 CFR Part 73

[DA 04-2507; MM Docket No. 02-40; RM-10377, RM-10508]

Radio Broadcasting Services; Goldsboro, Louisburg, Rolesville, and Smithfield, NC

AGENCY: Federal Communications Commission.

ACTION: Final rule.

SUMMARY: In response to a Notice of Proposed Rule Making, 67 FR 10872 (March 11, 2002), this Report and Order reallots Channel 272A, Station WKIX(FM), Goldsboro, North Carolina to Smithfield, North Carolina, and modifies Station WKIX(FM)'s license accordingly. The Commission approved the withdrawal of a counterproposal to reallot Channel 273A from Station WHLQ(FM), Louisburg, North Carolina, to Rolesville, North Carolina. The coordinates for Channel 272A at Smithfield, North Carolina, are 35-28-21 NL and 78-19-43 WL, with a site restriction of 4.1 kilometers (2.5 miles) south of Smithfield.

DATES: Effective September 27, 2004.

FOR FURTHER INFORMATION CONTACT: R. Barthen Gorman, Media Bureau, (202) 418-2180.

SUPPLEMENTARY INFORMATION: This is a synopsis of the Commission's Report and Order, MM Docket No. 02-40, adopted August 10, 2004, and released August 12, 2004. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone (202) 863-2893, facsimile (202) 863-2898. The Commission will send a copy of this Report and Order in a report to be sent to Congress and the General Accounting Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under North Carolina, is amended by removing Channel 272A at Goldsboro and by adding Smithfield, Channel 272A.

Federal Communications Commission.
John A. Karousos,
Assistant Chief, Audio Division, Media Bureau.

[FR Doc. 04-19027 Filed 8-18-04; 8:45 am]

BILLING CODE 6712-01-P